DEPARTMENT OF COMMERCE

International Trade Administration

(A-401-806)

Stainless Steel Wire Rod From Sweden: Rescission of Antidumping Duty Administrative Review

AGENCY: Import Administration, International Trade Administration, Department of Commerce.

ACTION: Notice of rescission of antidumping duty administrative review.

SUMMARY: On October 26, 2001, in response to a September 28, 2001, request made by Fagersta Stainless AB, a producer/exporter of stainless steel wire rod from Sweden, the Department of Commerce published the initiation of an administrative review of the antidumping duty order on stainless steel wire rod from Sweden, covering the period September 1, 2000 to August 31, 2001. Because Fagersta Stainless AB has withdrawn its request for review, the Department of Commerce is rescinding this review in accordance with 19 CFR 351.213(d)(1).

DATES: March 15, 2002.

FOR FURTHER INFORMATION CONTACT: Terre Keaton, AD/CVD Enforcement, Import Administration, International Trade Administration, U.S. Department of Commerce, 14th Street & Constitution Avenue, NW, Washington, DC 20230, telephone: (202)482-1280.

SUPPLEMENTARY INFORMATION: Unless otherwise indicated, all citations to the statute are references to the provisions effective January 1, 1995, the effective date of the amendments made to the Tariff Act of 1930 (“the Act”) by the Uruguay Round Agreements Act. In addition, unless otherwise indicated, all citations to the Department of Commerce's (“the Department's”) regulations refer to 19 CFR part 351 (2001).

Background

On September 15, 1998, the Department published an antidumping duty order onstainless steel wire rod from Sweden (63 FR 49329). On September 28, 2001, Fagersta Stainless AB (“Fagersta”), a producer/exporter of the subject merchandise, requested an administrative review of the antidumping duty order on stainless steel wire rod from Sweden covering the period of September 1, 2000, through August 31, 2000. In accordance with 19 CFR 351.221(c)(1)(i), we published the initiation of the review on October 26, 2001 (66 FR 54195). On February 13, 2002, Fagersta, the sole requester of this review, withdrew its request for review.

Rescission of Review

Pursuant to our regulations, the Department will rescind an administrative review, “if a party that requested the review withdraws the request within 90 days of the date of publication of notice of initiation of the requested review.” See 19 CFR 351.213(d)(1). This section further provides that the Secretary may extend this time limit if the Secretary decides that it is reasonable to do so. See 19 CFR 351.213(d)(1). Although the interested party's withdrawal of its request for review was not within the 90-day time limit, there were no objections to the withdrawal from the petitioner, and the Department has no compelling reason to deny the request. (See February 25, 2002, Memorandum to the File.) As a result, we are rescinding this administrative review. The Department will issue appropriate assessment instructions to the Customs Service.

This notice also serves as a reminder to parties subject to administrative protective order (“APO”) of their responsibility concerning the disposition of proprietary information disclosed under APO in accordance with 19 CFR 351.305(a)(3). Timely written notification of the return or destruction of APO materials is hereby requested. Failure to comply with the regulations and the terms of an APO is a sanctionable violation.

This determination is issued and published in accordance with sections 751(a)(1) and 777(i)(1) of the Tariff Act of 1930, as amended.

March 7, 2002
Richard W. Moreland,
Deputy Assistant Secretary for Import Administration.

[FR Doc. 02-6292 Filed 3-14-02; 8:45 am]

BILLING CODE 3510-DS-S